FEDERAL MARITIME COMMISSION

Agency Information Collection Activities: Proposed Collection; Comment Request

AGENCY: Federal Maritime Commission.

ACTION: Notice and request for comments.

SUMMARY: In accordance with the Paperwork Reduction Act of 1995 and the Office of Management and Budget (“OMB”) regulations, the Federal Maritime Commission is announcing its intention to request a revision of an approved information collection regarding the licensing of ocean transportation intermediaries.

DATES: Comments must be submitted on or before August 7, 2007.

ADDRESSES: You may send comments to: Peter J. King, Director, Office of Administration, Federal Maritime Commission, 800 North Capitol Street, NW., Washington, DC 20573, (Telephone: (202) 523-5800), administration@fmc.gov. Please reference the information collection's title and OMB number in your comments.

FOR FURTHER INFORMATION CONTACT: To obtain additional information, copies of the information collection and instructions, or copies of any comments received, contact Jane Gregory, Management Analyst, Office of Administration, Federal Maritime Commission, 800 North Capitol Street, NW., Washington, DC 20573, (Telephone: (202) 523-5800), jgregory@fmc.gov.

SUPPLEMENTARY INFORMATION:

Request for Comments

The Federal Maritime Commission, as part of its continuing effort to reduce paperwork and respondent burden, invites the general public and other Federal agencies to comment on the revised information collection listed in this notice, as required by the Paperwork Reduction Act of 1995 (44 U.S.C. 3501 et seq.).

Comments submitted in response to this notice will be included or summarized in our request for OMB approval of the relevant information collection. All comments are part of the public record and subject to disclosure. Please do not include any confidential or inappropriate material in your comments. We invite comments on: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR 515—Licensing, Financial Responsibility Requirements and General Duties for Ocean Transportation Intermediaries and Related Forms.

OMB Approval Number: 3072-0018 (Expires July 31, 2007).

Abstract: Section 19 of the Shipping Act of 1984 (the “Act”), 46 U.S.C. 40901-40904 (2006), as modified by Public Law 105-258 (The Ocean Shipping Reform Act of 1998) and Section 424 of Public Law 105-383 (The Coast Guard Authorization Act of 1998), provides that no person in the United States may act as an ocean transportation intermediary (“OTI”) unless that person holds a license issued by the Commission. The Commission shall issue an OTI license to any person that the Commission determines to be qualified by experience and character to act as an OTI. Further, no person may act as an OTI unless that person furnishes a bond, proof of insurance or other surety in a form and amount determined by the Commission to ensure financial responsibility. The Commission has implemented the provisions of section 19 in regulations contained in 46 CFR part 515, including financial responsibility forms FMC-48, FMC-67, FMC-68, and FMC-69, Optional Rider Forms FMC-48A and FMC-69A, and its related license application form, FMC-18.

Current Actions: The Commission intends to revise Form FMC-18, Application for a License as an Ocean Transportation Intermediary. Specifically, language is being added to the Privacy Act Notice regarding voluntary disclosure of the applicant's Social Security Number, and the System of Records citation is being updated. In the Paperwork Reduction Act Notice, the estimated time to prepare an Application is being revised from 1.5 hours per response to 2 hours. Throughout the Application, any reference to the Bureau of Consumer Complaints and Licensing (“BCCL”) has been changed to the Bureau of Certification and Licensing (“BCL”). Also, language has been added to Question 7(2) in Part B, and to Question 13(3) in Part D, allowing applicant or its qualifying individual to disclose whether he/she has “been declared bankrupt, been subject to a tax lien, or had legal judgment rendered for a debt.” In accordance with the Privacy Act of 1974, this would allow the agency, to the greatest extent practicable, to collect information about an applicant that may be used in making a decision with respect to the granting of an OTI license, directly from the applicant.

Type of Review: Revision of information collection contained in Form FMC-18, Application for a License as an Ocean Transportation Intermediary.

Needs and Uses: The Commission uses information obtained under 46 CFR part 515 and through Form FMC-18 to determine the qualifications of OTIs and their compliance with shipping statutes and regulations and to enable the Commission to discharge its duties under the Act by ensuring that OTIs maintain acceptable evidence of financial responsibility. If the collection of information were not conducted, there would be no basis upon which the Commission could determine if applicants are qualified for licensing.

Frequency: This information is collected when applicants apply for a license or when existing licensees change certain information in their application forms.

Type of Respondents: The respondents are persons desiring to obtain a license to act as an OTI. Under the Act, OTIs may be either an ocean freight forwarder, a non-vessel-operating common carrier, or both.

Number of Annual Respondents: The Commission estimates a potential annual respondent universe of 4,765 entities.

Estimated Time Per Response: The time per response for completing Application Form FMC-18 averages 2 hours. The time to complete a financial responsibility form averages 20 minutes.

Total Annual Burden: The Commission estimates the annual burden for Form FMC-18 to be 1,400 person-hours, and for the financial responsibility forms to be 2,196 hours. The total annual person-hour burden for this collection is estimated to be 3,596 person-hours.

Bryant L. VanBrakle,
Secretary.

[FR Doc. E7-11067 Filed 6-7-07; 8:45 am]

BILLING CODE 6730-01-P